DEPARTMENT OF JUSTICE

Office of Justice Programs

[OMB Number 1121-0197]

Agency Information Collection Activities; Proposed eCollection eComments Requested; Extension Without Change, of a Previously Approved Collection

AGENCY: Office of Justice Programs, Department of Justice.

ACTION: 30-Day notice.

SUMMARY: The Bureau of Justice Assistance, Office of Justice Programs, Department of Justice (DOJ), will be submitting the following information collection request to the Office of Management and Budget (OMB) for review and approval in accordance with the Paperwork Reduction Act of 1995.

DATES: Comments are encouraged and will be accepted input day until August 30, 2021.

FOR FURTHER INFORMATION CONTACT: If you have additional comments on the estimated burden to facilities covered by the standards to comply with the regulation's reporting requirements, suggestions, or need additional information, please contact, Joseph Husted, Policy Advisor, Bureau of Justice Assistance, 810 Seventh Street NW, Washington, DC., 20531 or by email at Joseph.Husted@ojp.usdoj.gov or SCAAP@usdoj.gov or call 202-616-6500/202-353-4411.

SUPPLEMENTARY INFORMATION: Written comments and suggestions from the public and affected agencies concerning the proposed collection of information are encouraged. Your comments should address one or more of the following four points:

—Evaluate whether the proposed collection of information is necessary for the proper performance of the functions of the agency, Bureau of Justice Assistance, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including use of appropriate automated, electronic, mechanical, or other technological collection techniques or other forms of information technology, e.g., permitting electronic submission of responses.

Overview of This information Collection

1. Type of Information Collection: Extension of a currently approved collection.

2. Agency Form Number: State Criminal Alien Assistance Program (SCAAP) Authorizing Legislation: Section 241(i) of the Immigration and Nationality Act (8 U.S.C. 1231(i)).

3. The Agency Form Number: There is not form number associated with this information collection. The applicable component within the Department of Justice is the Bureau of Justice Assistance, in the Office of Justice Programs. The application process is managed through the internet, using the Office of Justice Programs' (OJP) SCAAP online application system at: https://bja.ojp.gov/program/state-criminal-alien-assistance-program-scaap/overview?Program_ID=86.

4. Affected public who will be asked or required to respond, as well as a brief abstract:

Federal, State, and local public safety agencies. States and local units of general government including the 50 state governments, the District of Columbia, Guam, Puerto Rico, the U.S. Virgin Islands, and the more than 3,000 counties and cities with correctional facilities.

Abstract: In response to the Violent Crime Control and Law Enforcement Act of 1994 Section 130002(b) as amended in 1996, BJA administers the State Criminal Alien Assistance Program (SCAAP) with the Bureau of Immigration and Customs Enforcement (ICE), and the Department of Homeland Security (DHS). SCAAP provides federal payments to States and localities that incurred correctional officer salary costs for incarcerating undocumented criminal aliens with at least one felony or two misdemeanor convictions for violations of state or local law, and who are incarcerated for at least 4 consecutive days during the designated reporting period and for the following correctional purposes;

Salaries for corrections officers

Overtime costs

Performance based bonuses

Corrections work force recruitment and retention

Construction of corrections facilities

Training/education for offenders

Training for corrections officers related to offender population management Consultants involved with offender population

Medical and mental health services

Vehicle rental/purchase for transport of offenders

Prison Industries

Pre-release/reentry programs

Technology involving offender management/inter agency information sharing

Disaster preparedness continuity of operations for corrections facilities

Other: None.

An estimate of the total number of respondents and the amount of time estimated for an average respondent to respond: It is estimated that no more than 700 respondents will apply. Each application takes approximately 90 minutes to complete and is submitted once per year.

5. An estimate of the total public burden (in hours) associated with the collection: An estimate of the total number of respondents and the amount of time estimated for an average respondent to respond/reply. It is estimated that no more than 700 respondents will apply. Each application takes approximately 90 minutes to complete and is submitted once per year (annually).

• 700 × 90 minutes = 63,000 minutes/60 = 1,050 hours.

6. An estimate of the total public burden (in hours) associated with the collection: The estimated annual public burden is 1,050 hours.

If additional information is required, contact: Melody Braswell, Department Clearance Officer, United States Department of Justice, Justice Management Division, Policy and Planning Staff, Two Constitution Square, 145 N Street NE, 3E.405A, Washington, DC 20530.

Dated: July 27, 2021.
Melody Braswell,
Department Clearance Officer for PRA, U.S. Department of Justice.

[FR Doc. 2021-16308 Filed 7-29-21; 8:45 am]

BILLING CODE 4410-18-P